DEPARTMENT OF THE TREASURY

Submission for OMB Review; Comment Request

May 3, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 9, 2005 to be assured of consideration.

Financial Crimes Enforcement Network (FinCEN)

OMB Number: 1506-0012.

Form Number: FinCEN Form 110.

Type of Review: Revision.

Title: Designation of Exempt Person.

Description: Banks will use the form to exempt certain customers from the requirements to report to the Treasury a customer's cash transactions exceeding $10,000.

Respondents: Business or other for-profit, Not-for-profit institutions.

Estimated Number of Respondents: 19,000.

Estimated Burden Hours Per Respondent: 1 hour, 10 minutes.

Frequency of Response: Other (one time).

Estimated Total Reporting/Recordkeeping Burden: 340,000 hours.

Clearance Officer: Russell Stephenson, (202) 354-6012, Financial Crimes Enforcement Network, 2070 Chain Bridge Road, Suite 200, Vienna, VA 22182.

OMB Reviewer: Alexander T. Hunt, (202) 395-7316, Office of Management and Budget, Room 10235, New Executive Office Building, Washington, DC 20503.

Lois K. Holland,
Treasury PRA Clearance Officer.

[FR Doc. 05-9287 Filed 5-9-05; 8:45 am]

BILLING CODE 4810-02-P